ENVIRONMENTAL PROTECTION AGENCY

[FRL-8688-9]

Proposed Consent Decree, Clean Air Act Citizen Suit

AGENCY: Environmental Protection Agency (EPA).

ACTION: Notice of proposed consent decree; request for public comment.

SUMMARY: In accordance with section 113(g) of the Clean Air Act, as amended (CAA or “Act”), 42 U.S.C. 7413(g), notice is hereby given of a proposed consent decree, to address a lawsuit filed by Association of Irritated Residents and Natural Resources Defense Council (“Plaintiffs”) in the United States District Court for the Northern District of California: Association of Irritated Residents v. EPA, No. CV 08-0227-SC (N.D. Cal.). Plaintiffs filed a deadline suit to compel the Administrator to take action under section 110(k) of the Act on three specific revisions to the state implementation plan (SIP) submitted by the State of California. The three SIP revisions include the 2003 State and Federal Strategy for the California State Implementation Plan, the 2004 San Joaquin Valley Extreme Ozone Attainment Demonstration Plan (“2004 San Joaquin Valley SIP”), and the 2003 Air Quality Management Plan for the South Coast Air Quality Management District (“2003 South Coast SIP”). Under the terms of the proposed consent decree, deadlines have been established for EPA to take action on the three California SIPs. If EPA fulfills its obligations, Plaintiffs have agreed to dismiss this suit with prejudice.

DATES: Written comments on the proposed consent decree must be received by August 8, 2008.

ADDRESSES: Submit your comments, identified by Docket ID number EPA-HQ-OGC-2008-0487, online at www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m., Monday through Friday, excluding legal holidays. Comments on a disk or CD-ROM should be formatted in Word or ASCII file, avoiding the use of special characters and any form of encryption, and may be mailed to the mailing address above.

FOR FURTHER INFORMATION CONTACT: Jan Tierney, Air and Radiation Law Office (2344A), Office of General Counsel, U.S. Environmental Protection Agency, 1200 Pennsylvania Ave., NW., Washington, DC 20460; telephone: (202) 564-5598; fax number (202) 564-5603; e-mail address: tierney.jan@epa.gov.

SUPPLEMENTARY INFORMATION:

I. Additional Information About the Proposed Consent Decree

This proposed consent decree would resolve a lawsuit seeking to compel action by EPA under section 110(k) of the CAA on the following three SIP revisions submitted by the State of California: The 2003 State and Federal Strategy for the California State Implementation Plan, the 2004 San Joaquin Valley SIP, and the 2003 South Coast SIP. On February 13, 2008, the State of California withdrew specific elements of the 2003 State and Federal Strategy for the California State Implementation Plan that relate to the South Coast Air Basin. On March 6, 2006, the State of California submitted a SIP revision that updates and replaces chapter 4 of the 2004 San Joaquin Valley SIP.

Under the terms of the proposed consent decree, EPA will sign for publication in the Federal Register notices of the Agency's proposed actions pursuant to CAA section 110(k) on the remaining elements of the 2003 State and Federal Strategy for the California State Implementation Plan, the 2004 San Joaquin Valley SIP, and the 2003 South Coast SIP by October 15, 2008. EPA will sign notices of the Agency's final actions pursuant to CAA section 110(k) on the three plans by January 15, 2009.

Under the proposed consent decree, EPA actions on any amendments to the three plans submitted by the State of California, including the replacement of chapter 4 of the 2004 San Joaquin Valley SIP submitted on March 6, 2006, shall satisfy the obligations to act on the plans as long as EPA meets the deadlines specified in the paragraph above. Also, if the State of California rescinds its February 13, 2008 letter withdrawing specific elements of the 2003 State and Federal Strategy for the California State Implementation Plan that relate to the South Coast Air Basin by August 1, 2008, then EPA must act on the plan in its entirety, once again, by the dates specified in the paragraph above. If the State of California rescinds its February 13, 2008 letter after August 1, 2008 but prior to final action on the applicable plans, then the parties will negotiate a revised schedule for the applicable plans.

In the proposed consent decree, EPA agrees that, pursuant to CAA section 304(d), 42 U.S.C. 7604(d), Plaintiffs are both eligible and entitled to recover their costs of litigation in this action, including reasonable attorneys' fees, incurred prior to entry of the consent decree. The consent decree becomes an order of the Court upon entry, and, consistent with the terms of the consent decree, the case shall be dismissed with prejudice after EPA takes final action on the three plans.

For a period of thirty (30) days following the date of publication of this notice, the Agency will receive written comments relating to the proposed consent decree from persons who were not named as parties to the litigation in question. EPA or the Department of Justice may withdraw or withhold consent to the proposed consent decree if the comments disclose facts or considerations that indicate that such consent is inappropriate, improper, inadequate, or inconsistent with the requirements of the Act. Unless EPA or the Department of Justice determines, based on any comment which may be submitted, that consent to the consent decree should be withdrawn, the terms of the decree will be affirmed.

II. Additional Information About Commenting on the Proposed Consent Decree

A. How Can I Get a Copy of the Consent Decree?

The official public docket for this action (identified by Docket ID No. EPA-HQ-OGC-2008-0487) contains a copy of the proposed consent decree. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use the www.regulations.gov to submit or view public comments, access the index listing of the contents of the official public docket, and to access those documents in the public docket that are available electronically. Once in the system, select “search,” then key in the appropriate docket identification number.

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through www.regulations.gov, your e-mail address is automatically captured and included as part of the comment that is placed in the official public docket, and made available in EPA's electronic public docket.

Dated: July 2, 2008.
Richard B. Ossias,
Associate General Counsel.

[FR Doc. E8-15578 Filed 7-8-08; 8:45 am]

BILLING CODE 6560-50-P